DEPARTMENT OF THE INTERIOR

National Park Service

National Register of Historic Places; Notification of Pending Nominations

Nominations for the following properties being considered for listing in the National Register were received by the National Park Service before April 24, 2004. Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax, 202-371-6447. Written or faxed comments should be submitted by May 27, 2004.

Carol D. Shull,
Keeper of the National Register of Historic Places.

ALABAMA

Chilton County

Gragg Field Historic District, 700 Airport Rd., Clanton, 04000557

Colbert County

Carter, Clyde, House, 300 Lime Kiln Rd., Ford City, 04000559

Crenshaw County

Brantley Historic District, Roughly bounded by Sasser St, Fulton Ave., Peachtree St. and Wyatt, and Central of Georgia RR, Brantley, 04000558

Jefferson County

Flintridge Building, 6200 E. J. Oliver Blvd., Fairfield, 04000560

Madison County

Gurley Historic District, Section Line St., Railroad St., Maple Blvd. and Church St. bet. Gurley Pike and Jackson St., Gurley, 04000562

Talladega County

Sylacauga Historic Commercial District, Roughly bounded by Broadway Ave., W. 1st., Anniston Ave., W 4th St., Sylacauga, 04000563

FLORIDA

Miami-Dade County

Ocean Spray Hotel, 4130 Collins Ave., Miami Beach, 04000564

Polk County

Biltmore—Cumberland Historic District, Roughly Bounded by E. Lime St., Bartow Rd., Hollingsworth Rd., Lake Horney, McDonald Pl. and S. Ingraham Ave., Lakeland, 04000565

MASSACHUSETTS

Berkshire County

Hyde School, 100 High St., Lee, 04000566

NORTH CAROLINA

Buncombe County

Black Mountain Downtown Historic District, Black Mountain Ave., Sutton Ave., Cherry, Broadway and State Sts., Black Mountain, 04000570

Brigman—Chambers House, NC 1003, 0.6. mi. W of jct. with NC 2118, Weaverville, 04000573

Durham County

Morehead Hill Historic District (Boundary Increase), (Durham MRA), Includes portions of Arnette, Vickers, Yancey, Parker and Wells Sts., Durham, 04000567

Trinity Park Historic District (Boundary Increase), (Durham MRA), Roughly bounded by Trinity Historic District, N. Buchanan Blvd., W. Club Blvd., Woodland Dr., and N. Duke St., Durham, 04000568

Union County

Piedmont Buggy Factory, 514 Miller St., Monroe, 04000569

RHODE ISLAND

Newport County

CORONET (Wooden Hull Schooner Yacht), 440 Thames, Newport, 04000571

VIRGINIA

Charlottesville Independent city

Monroe Hill, 252 and 256 McCormick Rd., Charlottesville (Independent City), 04000575

Halifax County

Staunton River Bridge Fortification, Address Restricted, Randolph, 04000577

Henrico County

Clarke—Palmore House, 904 McCoul St., Richmond, 04000576

Richmond Independent city Manchester Industrial Historic District (Boundary Increase), 700 Block of Stockton St., Richmond (Independent City), 04000574

Maury Street Marker, Jefferson Davis Highway, (UDC Commemorative Highway Markers along the Jefferson Davis Highway in Virginia) Jct. of Maury St. and Jefferson Davis Highway, Richmond (Independent City), 04000572

A request for REMOVAL has been made for the following resources:

INDIANA

Morgan County

Burton Lane Bridge Burton Ln. Over Indian Cr., .3 mi. S of IN 37 Martinsville (vicinity) 97000302

Hastings Schoolhouse (Indiana's Public Common and High Schools MPS) 1/5 mi. S. of Jct. Hacker Creek Rd. And Liberty Church Rd. Martinsville (vicinity) 99000299

A request for a MOVE has been made for the following resource:

KANSAS

Geary County

Wetzel, Christian, Cabin About 2 mi. E of Junction City at jct. Of I-70 and KS 57 Junction City (vicinity) 73000757

[FR Doc. 04-10707 Filed 5-11-04; 8:45 am]

BILLING CODE 4312-51-P